DEPARTMENT OF THE TREASURY

President's Advisory Council on Financial Capability Proposed Themes and Principles; Request for Comment

AGENCY: Department of the Treasury.

ACTION: Notice of request for public comment.

SUMMARY: The Department of the Treasury, on behalf of the President's Advisory Council on Financial Capability (“Council”), invites public comment on the Council's proposed themes and principles for recommendations presented at the Council's July 21, 2011, meeting. Established by Executive Order on January 29, 2010, the role of the Council is to advise the President and the Secretary of the Treasury on means to promote and enhance individuals' and families' financial capability.

DATES: Submission of comments is requested by September 22, 2011.

Submission of Written Statements: The public is invited to submit written comments to the Council. Written comments should be sent by any one of the following methods:

Electronic Comments

E-mail ofe@treasury.gov; or

Paper Comments

The Department of the Treasury, Office of Financial Education and Financial Access, Main Treasury Building, 1500 Pennsylvania Avenue, NW., Washington, DC 20220.

In general, the Department will make all comments available in their original format, including any business or personal information provided such as names, addresses, e-mail addresses, or telephone numbers, for public inspection and photocopying in the Department's library, Room 1428, Main Department Building, 1500 Pennsylvania Avenue, NW., Washington, DC, 20220, on official business days between the hours of 10 a.m. and 5 p.m. You can make an appointment to inspect comments by calling (202) 622-0990. All comments received, including attachments and other supporting materials, are part of the public record and subject to public disclosure. You should only submit comments that you wish to make publicly available.

FOR FURTHER INFORMATION CONTACT: Dubis Correal, Director, Office of Financial Education, Department of the Treasury, 1500 Pennsylvania Avenue, NW., Washington, DC 20220, at (202) 622-5770 or ofe@treasury.gov.

SUPPLEMENTARY INFORMATION: On January 29, 2010, the President signed Executive Order 13530, creating the Council to assist the American people in understanding financial matters and making informed financial decisions, thereby contributing to financial stability. The Council is composed of two ex officio Federal officials and 11 non-governmental members appointed by the President with relevant backgrounds, such as financial services, consumer protection, financial access, and education. The role of the Council is to advise the President and the Secretary of the Treasury (“Secretary”) on means to promote and enhance individuals' and families' financial capability. The Council held its first meeting on November 30, 2010, its second on April 21, 2011, and its third on July 12, 2011. At the July 12 meeting, the Council outlined five guiding principles based on the current state of financial education and access, to serve as an aid to the Council in making its final recommendations to the President and the Secretary. Also on July 12, the Council identified three themes. Together, the principles and themes will serve as the framework for the final recommendations the Council will make to the President and the Secretary. The Council also believes there are many alternative tactics that can be used to achieve the goals expressed in the themes. In particular, the Council is interested in approaches that have proven to be effective in advancing the three themes and can be scaled up. Please include examples and associated research supporting the effectiveness of the approaches. Each of the Council subcommittees (Access, Partnerships, Research and Evaluation, and Youth) will review the timely submitted comments to inform their recommendations to the full Council.

Request for Comments: Comments are requested on both the themes and principles, and tactics that will achieve their goals. In particular, the Council is interested in approaches that have proven to be effective in advancing the three themes and can be scaled up. Commenters are urged to keep comments succinct and relevant to the content expressed by the themes and principles; therefore we request responses no longer than three pages. The themes and principles are posted on the Department's Web site: http://www.treasury.gov/resource-center/financial-education/Pages/July122011.aspx.

Dated: August 23, 2011.
Rebecca Ewing,
Acting Executive Secretary, U.S. Department of the Treasury.

[FR Doc. 2011-22435 Filed 8-31-11; 8:45 am]

BILLING CODE 4810-25-P